DEPARTMENT OF ENERGY

Federal Energy Regulatory Commission

[Docket No. CP16-474-000]

High Point Gas Transmission, LLC; Notice of Schedule for Environmental Review of the Venice to Toca Pipeline Abandonment Project

On July 1, 2016, High Point Gas Transmission, LLC (High Point) filed an application in Docket No. CP16-474-000 requesting a Certificate of Public Convenience and Necessity pursuant to section 7(b) of the Natural Gas Act to abandon certain natural gas pipeline facilities. The proposed project is known as the Venice to Toca Pipeline Abandonment Project (Project). High Point proposes to abandon by sale to Cayenne Pipeline, LLC about 61.3 miles of pipeline facilities in Plaquemines and St. Bernard Parishes, Louisiana.

On July 14, 2016, the Federal Energy Regulatory Commission (Commission or FERC) issued its Notice of Application for the Project. Among other things, that notice alerted agencies issuing federal authorizations of the requirement to complete all necessary reviews and to reach a final decision on a request for a federal authorization within 90 days of the date of issuance of the Commission staff's Environmental Assessment (EA) for the Project. This instant notice identifies the FERC staff's planned schedule for the completion of the EA for the Project.

Schedule for Environmental Review

Issuance of EA: February 3, 2017

90-day Federal Authorization Decision Deadline: May 4, 2017

If a schedule change becomes necessary, additional notice will be provided so that the relevant agencies are kept informed of the Project's progress.

Project Description

High Point would abandon by sale nine segments (totaling 61.3 miles) of 12- to 22-inch-diameter natural gas pipeline on its Venice to Toca Transmission Pipeline. To continue use of the remainder of High Point's system and isolate it from the abandoned pipeline that Cayenne Pipeline, LLC plans to use for natural gas liquids, High Point would cut and cap the pipeline at nine locations and remove one meter. All of the abandonment activities, except for disconnecting cross-over and tie-in piping at the Venice, Toca, and Venice Gas Processing Plants and the use of three existing access roads, would occur within High Point's existing permanent right-of-way. Most of the work would take place on existing platforms. The abandonment would also include modifications of 15 associated aboveground valves to isolate the line to be abandoned from the rest of High Point's pipeline system.

Additional Information

In order to receive notification of the issuance of the EA and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC Web site (www.ferc.gov). Using the “eLibrary” link, select “General Search” from the eLibrary menu, enter the selected date range and “Docket Number” excluding the last three digits (i.e., CP16-474), and follow the instructions. For assistance with access to eLibrary, the helpline can be reached at (866) 208-3676, TTY (202) 502-8659, or at FERCOnlineSupport@ferc.gov. The eLibrary link on the FERC Web site also provides access to the texts of formal documents issued by the Commission, such as orders, notices, and rule makings.

Dated: December 22, 2016.
Nathaniel J. Davis, Sr.,
Deputy Secretary.

[FR Doc. 2016-31535 Filed 12-28-16; 8:45 am]

BILLING CODE 6717-01-P